DEPARTMENT OF COMMERCE

National Telecommunications and Information Administration

Proposed Information Collection; Comment Request; Public Telecommunications Facilities Program Application Form

ACTION: Notice.

SUMMARY: The U.S. Department of Commerce as part of its continuing effort to reduce paperwork and respondent burden, invites the general public and other Federal agencies to comment on continuing and proposed information collections, as required by the Paperwork Reduction Act of 1995, Public Law 104-13 (44 U.S.C. 3506(c)(2)(A)).

DATES: Written comments must be submitted on or before November 2, 2009.

ADDRESSES: Direct all written comments to Diana Hynek, Departmental Paperwork Clearance Officer, U.S. Department of Commerce, Room 7845, 1401 Constitution Avenue, NW., Washington, DC 20230 (or via the Internet dHynek@doc.gov).

FOR FURTHER INFORMATION CONTACT: Requests for additional information or copies of the information collection instrument(s) and instructions should be directed to Clifton Beck, NTIA, Room H-4888, U.S. Department of Commerce, 1401 Constitution Avenue, NW., Washington, DC 20230 (or via the Internet cbeck@ntia.doc.gov).

SUPPLEMENTARY INFORMATION:

I. Abstract

Under authority of 47 U.S.C. 390-394, 397-399, the National Telecommunications and Information Administration (NTIA) administers the Public Telecommunications Facilities Program (PTFP). The purpose of PTFP is to assist, through matching funds, in the planning and construction of public telecommunications facilities in order to achieve the following objectives:

• Extend delivery of public telecommunications services to as many citizens in the United States as possible by the most efficient and economical means, including the use of broadcast and nonbroadcast technologies;

• Increase public telecommunications services and facilities available to, operated by, and owned by minorities and women; and

• Strengthen the capability of existing public radio and television stations to provide public telecommunications services to the public.

The application is used to collect the required information for NTIA to evaluate eligibility of applicants, including but not limited to, project and financial resources information, population that the project will service, and type of equipment requested. NTIA conducts a competitive review process. The award decisions are made by the Assistant Secretary for Communications and Information and are announced prior to the end of the fiscal year (September 30).

II. Method of Collection

Collection allows grantees to make all submissions either over the Internet or by mail. The information collection is required of all applicants who request funding from the Public Telecommunications Facilities Program.

III. Data

OMB Control Number: 0660-0003.

Form Number: None.

Type of Review: Regular submission.

Affected Public: Not-for-profit institutions, state or local government agencies.

Estimated Number of Total Respondents: 300.

Estimated Time per Response: 4 to 84 hours, depending on the required information.

Estimated Total Annual Burden Hours: 23,830.

Estimated Total Annual Cost to the Public: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized and/or included in the request for OMB approval of the information collection; they also will become a matter of public record.

Dated: August 27, 2009.
Gwellnar Banks,
Management Analyst, Office of the Chief Information Officer.

[FR Doc. E9-21121 Filed 9-1-09; 8:45 am]

BILLING CODE 3510-60-P